DEPARTMENT OF TRANSPORTATION

Federal Motor Carrier Safety Administration

[Docket No. FMCSA-2019-0260]

Parts and Accessories Necessary for Safe Operation; Exemption Renewal for National Tank Truck Carriers, Inc.

AGENCY: Federal Motor Carrier Safety Administration (FMCSA), Department of Transportation (DOT).

ACTION: Notice of application for renewal of exemption; request for comments.

SUMMARY: The Federal Motor Carrier Safety Administration (FMCSA) requests public comment on the application from National Tank Truck Carriers, Inc. (NTTC) for a renewal of its exemption allowing motor carriers operating tank trailers to install a red or amber brake-activated pulsating lamp positioned in the upper center position or in an upper dual outboard position on the rear of the trailers, in addition to the steady-burning brake lamps required by the Federal Motor Carrier Safety Regulations (FMCSRs). NTTC currently holds an exemption for the period October 8, 2020, through October 8, 2025, and requests a five-year renewal of the exemption. FMCSA requests public comment on NTTC's request to renew the exemption.

DATES: Comments must be received on or before September 24, 2025.

ADDRESSES: You may submit comments identified by docket number FMCSA-2019-0260 using any of the following methods:

• Federal eRulemaking Portal: Go to https://www.regulations.gov/docket/FMCSA-2019-0260/document. Follow the online instructions for submitting comments.

• Mail: Dockets Operations, U.S. Department of Transportation, 1200 New Jersey Avenue SE, West Building, Ground Floor, Washington, DC 20590-0001.

• Hand Delivery or Courier: Dockets Operations, U.S. Department of Transportation, 1200 New Jersey Avenue SE, West Building, Ground Floor, Washington, DC 20590-0001, between 9 a.m. and 5 p.m. ET, Monday through Friday, except Federal holidays.

• Fax: (202) 493-2251.

FOR FURTHER INFORMATION CONTACT: Mr. David Sutula, Chief, Vehicle and Roadside Operations Division, Office of Carrier, Driver, and Vehicle Safety, FMCSA, 1200 New Jersey Avenue SE, Washington, DC 20590-0001; (202) 961-1373; MCPSV@dot.gov. If you have questions on viewing or submitting material to the docket, call Dockets Operations at (202) 366-9826.

SUPPLEMENTARY INFORMATION:

I. Public Participation and Request for Comments

A. Submitting Comments

If you submit a comment, please include the docket number for this notice (FMCSA-2019-0260), indicate the specific section of this document to which the comment applies, and provide a reason for suggestions or recommendations. You may submit your comments and material online or by fax, mail, or hand delivery, but please use only one of these means. FMCSA recommends that you include your name and a mailing address, an email address, or a phone number in the body of your document so the Agency can contact you if it has questions regarding your submission.

To submit your comment online, go to https://www.regulations.gov/docket/FMCSA-2019-0260/document, click on this notice, click “Comment,” and type your comment into the text box on the following screen. Choose whether you are submitting your comment as an individual or on behalf of a third party and then submit.

If you submit your comments by mail or hand delivery, submit them in an unbound format, no larger than 8 ½ by 11 inches, suitable for copying and electronic filing.

If you submit comments by mail and would like to know that they reached the facility, please enclose a stamped, self-addressed postcard or envelope.

FMCSA will consider all comments and material received during the comment period. Comments received after the comment closing date will be filed in the public docket and will be considered to the extent practicable.

B. Confidential Business Information (CBI)

CBI is commercial or financial information that is both customarily and actually treated as private by its owner. Under the Freedom of Information Act (5 U.S.C. 552), CBI is exempt from public disclosure. If your comments responsive to the notice contain commercial or financial information that is customarily treated as private, that you actually treat as private, and that is relevant or responsive to the notice, it is important that you clearly designate the submitted comments as CBI. Please mark each page of your submission that constitutes CBI as “PROPIN” to indicate it contains proprietary information. FMCSA will treat such marked submissions as confidential under the Freedom of Information Act, and they will not be placed in the public docket of the notice. Submissions containing CBI should be sent to Brian Dahlin, Chief, Regulatory Evaluation Division, Office of Policy, FMCSA, 1200 New Jersey Avenue SE, Washington, DC 20590-0001 or via email at brian.g.dahlin@dot.gov. At this time, you need not send a duplicate hardcopy of your electronic CBI submissions to FMCSA headquarters. Any comments FMCSA receives not specifically designated as CBI will be placed in the public docket for this notice.

C. Viewing Comments and Documents

To view any documents mentioned as being available in the docket, go to https://www.regulations.gov/docket/FMCSA-2019-0260/document and choose the document to review. To view comments, click this notice, then click “Browse Comments.” If you do not have access to the internet, you may view the docket online by visiting Dockets Operations on the ground floor of the DOT West Building, 1200 New Jersey Avenue SE, Washington, DC 20590-0001, between 9 a.m. and 5 p.m. ET, Monday through Friday, except Federal holidays. To be sure someone is there to help you, please call (202) 366-9317 or (202) 366-9826 before visiting Dockets Operations.

D. Privacy

In accordance with 49 U.S.C. 31315(b)(6), DOT solicits comments from the public to better inform its exemption process. DOT posts these comments, including any personal information the commenter provides, to www.regulations.gov as described in the system of records notice DOT/ALL 14 (Federal Docket Management System (FDMS)), which can be reviewed under the “Department Wide System of Records Notices” at https://www.transportation.gov/individuals/privacy/privacy-act-system-records-notices. The comments are posted without edit and are searchable by the name of the submitter.

II. Legal Basis

FMCSA has authority under 49 U.S.C. 31136(e) and 31315(b) to grant exemptions from the Federal Motor Carrier Safety Regulations. FMCSA must publish a notice of each exemption request in the Federal Register (49 CFR 381.315(a)). The Agency must provide the public an opportunity to inspect the information relevant to the application, including the applicant's safety analysis. The Agency must provide an opportunity for public comment on the request.

The Agency reviews the application, safety analyses, and public comments submitted and determines whether granting the exemption would likely achieve a level of safety equivalent to, or greater than, the level that would be achieved absent such exemption, pursuant to the standard set forth in 49 U.S.C. 31315(b)(1). The Agency must publish its decision in the Federal Register (49 CFR 381.315(b)). If granted, the notice will identify the regulatory provision from which the applicant will be exempt, the effective period, and all terms and conditions of the exemption (49 CFR 381.315(c)(1)). If the exemption is denied, the notice will explain the reason for the denial (49 CFR 381.315(c)(2)). The exemption may be renewed (49 CFR 381.300(b)).

III. Applicant's Exemption Request

Current Regulatory Requirements

Section 393.25(e) of the FMCSRs requires all exterior lamps (both required lamps and any additional lamps) to be steady-burning, except turn signal lamps, hazard warning signal lamps, school bus warning lamps, amber warning lamps or flashing warning lamps on tow trucks and commercial motor vehicles (CMV) transporting oversized loads, and warning lamps on emergency and service vehicles authorized by State or local authorities.

Application for Renewal of Exemption

On October 8, 2020, FMCSA published a notice of final disposition granting NTTC's application for a 5-year exemption to allow motor carriers operating tank trailers to install a red or amber brake-activated pulsating lamp in the upper center position or in an upper dual outboard position on the rear of the trailers, in addition to the steady-burning brake lamps required by the FMCSRs (85 FR 63643). FMCSA determined that granting the exemption was likely to achieve a level of safety that was equivalent to or greater than that provided under existing regulations.

In its renewal application, NTTC reiterates its position that the use of a red or amber brake-activated pulsating lamp, positioned in either the upper center or upper dual outboard rear positions on tank trailers, enhances rear visibility and contributes to overall safety by reducing the likelihood of rear-end collisions. Since FMCSA granted the original exemption, NTTC and its member carriers have continued to implement the technology and track its impact. Notably, Groendyke, an NTTC member, expanded installation of the pulsating brake lamps across its fleet from 38% in 2018 to 93% by 2023. During this time, Groendyke reported a significant reduction in rear-end accidents when vehicles were slowing or stopped—from 19 collisions in 2018 to just 4 in 2023—representing a 79% decrease. Groendyke attributes this safety improvement to the enhanced visibility provided by the auxiliary lamps.

NTTC cites additional support for the exemption based on the experience of Trimac Transportation, another NTTC member and one of the largest tank truck carriers in North America by miles traveled. As of 2024, Trimac reported equipping 863 of its cargo tanks with pulsating brake lamps. NTTC states that since implementing this technology, Trimac has experienced roughly a 20% reduction in rear-end collisions. NTTC states that these experiences suggest Groendyke and Trimac are not outliers but instead reflect broader industry-wide safety benefits associated with the use of this technology.

To further assess industry adoption, NTTC conducted an informal 2024 questionnaire and found that at least 34 motor carriers are currently using the exemption, representing a diverse cross-section of geographic regions, cargo types, and operational scales. These carriers reported bulk commodity transport ranging from 1.2 million to 510 million miles driven in 2024.

NTTC emphasizes that failure to renew the exemption would impose substantial financial and operational burdens on carriers who have adopted the technology in good faith. Trailers would need to be pulled from service to remove the lamps, labor costs would be incurred, and the lamps themselves—many still operational—would become unusable. More importantly, NTTC believes that denying the renewal would undermine the safety gains achieved in recent years, increasing the risk of rear-end collisions for both CMV drivers and the motoring public.

While exact numbers of drivers and trailers affected are difficult to estimate due to industry practices like slip seating—where multiple drivers share the same vehicle on different shifts—and non-fixed tractor-trailer pairings, NTTC references a 2025 analysis that identified 172,768 tractors in service in 2024, providing a general sense of industry scope.

A copy of NTTC's request to renew the exemption is available in the docket.

IV. Request for Comments

In accordance with 49 U.S.C. 31315(b), FMCSA requests public comment from all interested persons on NTTC's application for renewal of its exemption from § 393.25(e). All comments received before the close of business on the comment closing date indicated at the beginning of this notice will be considered and will be available for examination in the docket at the location listed under the Addresses section of this notice. Comments received after the comment closing date will be filed in the public docket and will be considered to the extent practicable. In addition to late comments, FMCSA will also continue to file, in the public docket, relevant information that becomes available after the comment closing date. Interested persons should continue to examine the public docket for new material.

Larry W. Minor,
Associate Administrator for Policy.

[FR Doc. 2025-16252 Filed 8-22-25; 8:45 am]

BILLING CODE 4910-EX-P